DEPARTMENT OF COMMERCE

United States Patent and Trademark Office

Patent Examiner Employment Application

ACTION: Proposed extension of an existing information collection; comment request.

SUMMARY: The United States Patent and Trademark Office (USPTO), as required by the Paperwork Reduction Act of 1995, invites comments on a proposed extension of an existing information collection: 0651-0042 (Patent Examiner Employment Application).

DATES: Written comments must be submitted on or before October 10, 2017.

ADDRESSES: You may submit comments by any of the following methods:

• Email: InformationCollection@uspto.gov. Include “0651-0042 comment” in the subject line of the message.

• Federal Rulemaking Portal: http://www.regulations.gov.

• Mail: Marcie Lovett, Records and Information Governance Division Director, Office of the Chief Technology Officer, United States Patent and Trademark Office, P.O. Box 1450, Alexandria, VA 22313-1450.

FOR FURTHER INFORMATION CONTACT: Request for additional information should be directed to LaRita Jones, Chief of the Workforce Employment Division, Office of Human Resources, United States Patent and Trademark Office, P.O. Box 1450, Alexandria, VA 22313-145; by telephone at 571-272-6196; or by email to larita.jones@upsto.gov with “0651-0042 comment” in the subject line. Additional information about this collection is also available at http://www.reginfo.gov under “Information Collection Review.”

SUPPLEMENTARY INFORMATION:

I. Abstract

In the current employment environment, information technology professionals and engineering graduates are in great demand. The USPTO is in direct competition with private industry for the same caliber of candidates with the requisite knowledge and skills to perform patent examination work. The use of automated online systems during recruitment allows the USPTO to remain competitive, meet hiring goals, and fulfill the agency's Congressional commitment to reduce the pendency rate for the examination of patent applications.

The USPTO uses the Monster Hiring Management (MHM) system to rapidly review applications for employment of entry-level patent examiners. Using MHM saves time by eliminating paper applications; reducing by several weeks the time Office of Human Resources staff need to spend processing and reviewing applications. Given the time sensitive hiring needs of the Patent Examining Corps, the MHM system provides increased speed and accuracy during the employment process.

The MHM online application collects supplemental information to an candidate's USAjobs application. This information assists the Human Resource Specialists and hiring managers in determining whether an applicant possesses the basic qualification requirements for the patent examiner position. From the information collected, the MHM system creates an electronic real-time candidate inventory on applicants' expertise and technical knowledge, which allows the USPTO to instantaneously review applications from multiple potential applicants.

The use of the MHM online application fully complies with 5 U.S.C. 2301, which requires adequate public notice to assure open competition by guaranteeing that necessary employment information will be accessible and available to the public on inquiry. It is also fully compliant with Section 508 (29 U.S.C. 794(d)), which requires agencies to provide disabled employees and members of the public access to information that is comparable to the access available to others.

II. Method of Collection

With the use of MHM, the applicant's information is collected electronically from the application. The USAJobs.gov Web site provides the online job announcement that links the applicant to the application and the MHM system. The application is completed online and then transmitted to the USPTO via the Internet.

III. Data

OMB Control Number: 0651-0042.

IC Instruments and Forms: There are no forms associated with this collection.

Type of Review: Extension of a currently approved collection.

Affected Public: Individuals or households.

Estimated Number of Respondents: 10,660 responses per year.

Estimated Time per Response: The USPTO estimates that the employment application takes approximately 30 minutes (0.50 hours) to complete (See Table 1 below). This includes the time to gather the necessary information, respond to the MHM prompts, and submit the completed request to the USPTO.

Estimated Total Annual Respondent Burden Hours: 5,330 hours.

Estimated Total Annual Respondent (Hourly) Cost Burden: $239,690. The USPTO expects that engineers and scientists will complete these applications. The professional hourly rate for these respondents is estimated at an hourly rate of $44.97. This rate is the median hourly wage in May 2016 according to the Bureau of Labor Statistics Occupational Employment Statistics (OES) program estimates for engineers ($43.75; OES 17-2000) and scientists ($46.19; OES 19-2099). Using this hourly rate, the USPTO estimates that the total respondent cost burden for this collection is $239,690.00 per year.

Table 1—Annual Hourly Cost Burden
IC # | Item | Estimated time for response (hr) | Estimated annual responses | Estimated annual burden | Estimated hourly rate | Estimated annual hourly cost
|  | (a) | (b) | (c) (a) × (b) | (d) | (e) (c) × (d)
1 | Patent Examiner Employee Application | 0.50 (30 minutes) | 10,660 | 5,330 | $44.97 | $239,690.00
Total |  |  | 10,660 | 5,330 |  | $239,690.00

Estimated Total Annual (Non-hour) Respondent Cost Burden: $0.00. There are no filing fees or start-up, maintenance, record keeping, or postage costs associated with this information collection.

IV. Request for Comments

Comments submitted in response to this notice will be summarized or included in the request for OMB approval of this information collection; they will also become a matter of public record.

Comments are invited on:

(a) Whether the proposed collection of information is necessary for the proper performance of the functions of the agency, including whether the information shall have the practical utility;

(b) The accuracy of the agency's estimate of the burden (including hours and costs) of the proposed collection of information;

(c) Ways to enhance the quality, utility, and clarity of the information to be collected; and

(d) Ways to minimize the burden of the collection of information on respondents, e.g., the use of automated collection techniques or other forms of information technology.

Marcie Lovett,
Records and Information Governance Division Director, Office of the Chief Technology Officer, United States Patent and Trademark Office.

[FR Doc. 2017-16940 Filed 8-10-17; 8:45 am]

BILLING CODE 3510-16-P